POSTAL SERVICE

39 CFR Part 111

Use of Foreign Return Addresses on Domestic Mailpieces

AGENCY: Postal Service™.

ACTION: Final rule.

SUMMARY: The Postal Service is amending Mailing Standards of the United States Postal Service, Domestic Mail Manual (DMM®) to clarify the consequences for using a foreign return address on a domestic mailpiece.

DATES: Effective date: January 1, 2024.

FOR FURTHER INFORMATION CONTACT: Catherine Knox at (202) 268-5636, Treishawna Harris at (202) 268-2965, or Garry Rodriguez at (202) 268-7281.

SUPPLEMENTARY INFORMATION: On November 6, 2023, the Postal Service published a notice of proposed rulemaking (88 FR 76162-76163) to further amend subsections 602.1.5.4 and 609.4.3 to clarify the procedures applicable to undeliverable domestic mailpieces bearing a foreign return address. The Postal Service did not receive any formal comments.

The Postal Service is revising DMM subsections 602.1.5.4, and 609.4.3, to clarify that undeliverable domestic mailpieces with a foreign return address will be handled in accordance with the Postal Service's dead mail procedures.

In a separate rule, the Postal Service will also revise a few related sections of the International Mail Manual (IMM) including subsection 762.2, Undeliverable Domestic Mail Bearing U.S. Postage and a Foreign Return Address.

We believe these revisions will provide customers with a more efficient mailing experience. The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, 39 CFR part 111 is amended as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

600 Basic Standards for All Mailing Services

* * * * *

602 Addressing

1.0 Elements of Addressing

* * * * *

1.5 Return Addresses

* * * * *

[Revise the heading of 1.5.4 to read as follows:]

1.5.4 Use of Foreign Return Addresses

[Revise the text of 1.5.4 to read as follows:]

When U.S. postage is applied to a domestic mailpiece, as defined under 608.2.1 and 608.2.2, only a domestic return address is authorized. An undeliverable domestic mailpiece bearing a foreign return address cannot be returned to sender and will be handled as dead mail under 507.1.9.

* * * * *

609 Filing Indemnity Claims for Loss or Damage

* * * * *

4.0 Claims

* * * * *

4.3 Nonpayable Claims

Indemnity is not paid for insured mail (including Priority Mail Express and Priority Mail), Registered Mail, COD, or Priority Mail and Priority Mail Express in these situations:

* * * * *

[Revise the text of 4.3 by adding a new item “ag” to read as follows:]

ag. An undeliverable, registered or insured domestic mailpiece bearing a foreign return address.

* * * * *

Sarah Sullivan,
Attorney, Ethics and Legal Compliance.

[FR Doc. 2023-27975 Filed 12-22-23; 8:45 am]

BILLING CODE 7710-12-P